DEPARTMENT OF TRANSPORTATION

Federal Aviation Administration

14 CFR Part 71

[Docket No. FAA-2002-14129; Airspace Docket No. 02-ACE-14]

Establishment of Class E Surface Area Airspace and Modification of Class E Airspace; Jefferson City, MO

AGENCY: Federal Aviation Administration (FAA), DOT.

ACTION: Final rule; correction.

SUMMARY: This action corrects a final rule that was published in the Federal Register on Wednesday, March 12, 2003, (68 FR 11738). It corrects an error in the legal description of Class E5 airspace at Jefferson City, MO.

EFFECTIVE DATE: This direct final rule is effective on 0901 UTC, April 17, 2003.

FOR FURTHER INFORMATION CONTACT: Kathy Randolph, Air Traffic Division, Airspace Branch, ACE-520C, DOT Regional Headquarters Building, Federal Aviation Administration, 901 Locust, Kansas City, MO 64106; telephone: (816) 329-2525.

SUPPLEMENTARY INFORMATION:

History

Federal Register document 03-5927 published on Wednesday, March 12, 2003, (68 FR 11738) established a Class E surface area and modified the Class E4 and Class E5 airspace areas at Jefferson City, MO. The Class E5 airspace area extension designed to protect aircraft on instrument approaches from the southeast was incorrectly identified as extending to the southwest of the airport.

Accordingly, pursuant to the authority delegated to me, the Class E5 airspace at Jefferson City, MO, as published in the Federal Register on Wednesday, March 12, 2003, (68 FR 11738), (FR Doc. 03-5927), is corrected as follows:

PART 71—DESIGNATION OF CLASS A, CLASS B, CLASS C, CLASS D AND CLASS E AIRSPACE AREAS; ROUTES; AND REPORTING POINTS

§ 71.1 [Corrected]

On page 11739, Column 3, first paragraph, last line change “11.8 miles southwest of the airport.” to read “11.8 miles southeast of the airport.”

Issued in Kansas City, MO, on March 12, 2003.
Paul J. Sheridan,
Acting Manager, Air Traffic Division, Central Region.

[FR Doc. 03-7072 Filed 3-24-03; 8:45 am]

BILLING CODE 4910-13-M